DEPARTMENT OF THE INTERIOR

Geological Survey

MPI Drilling, Inc.; Proposed Cooperative Research and Development Agreement

AGENCY: United States Geological Survey, Interior.

ACTION: Notice of proposed Cooperative Research and Development Agreement (CRADA) negotiations under the Technology Transfer Act of 1986.

SUMMARY: The United States Geological Survey (USGS) is contemplating entering into a CRADA with MPI Drilling, Inc. for the development of improved drilling technology.

INQUIRIES: Information on the proposed CRADA is available to the public upon request at the address below. If any other parties are interested in similar activities with the USGS, please contact: Wayne L. Newell, 12201 Sunrise Valley Drive, Reston, Virginia 20192; Telephone: 703-648-6991; Internet: wnewell@usgs.gov.

SUPPLEMENTARY INFORMATION: This notice is to meet the USGS requirement stipulated in the Survey Manual.

P. Patrick Leahy,
Associate Director for Geology.

[FR Doc. 00-23083 Filed 9-7-00; 8:45 am]

BILLING CODE 4310-Y7-M